ENVIRONMENTAL PROTECTION AGENCY

[EPA-HQ-OPP-2015-0276 and EPA-HQ-OPP-2015-0302; FRL-9930-91]

Extension of Comment Periods for the Draft Series 810—Product Performance Test Guidelines and the Proposed Antimicrobial Pesticide Use Site Index

AGENCY: Environmental Protection Agency (EPA).

ACTION: Notice; extension of comment periods.

SUMMARY: EPA is hereby extending the comment periods for the following two notices: the notice that issued in the Federal Register of June 17, 2015, entitled “Draft Test Guidelines; Series 810—Product Performance Test Guidelines; Notice of Availability and Request for Comments” (“Draft Test Guidelines”) and the notice that issued in the Federal Register of July 1, 2015, entitled “Proposed Antimicrobial Pesticide Use Site Index; Notice of Availability and Request for Comment” (“Proposed Use Site Index”). This document extends the comment periods for those two notices in response to requests from stakeholders for additional time to review and provide comments.

DATES: Comments for the Draft Test Guidelines must be identified by docket identification (ID) number EPA-HQ-OPP-2015-0276 and must be received on or before October 1, 2015. Comments for the Proposed Use Site Index must be identified by docket ID number EPA-HQ-OPP-2015-0302 and must be received on or before August 31, 2015.

ADDRESSES: Follow the detailed instructions provided under ADDRESSES in the Federal Register document of either June 17, 2015 (80 FR 34638) (FRL-9927-37) or July 1, 2015 (80 FR 37610) (FRL-9929-42), as applicable.

FOR FURTHER INFORMATION CONTACT: As listed in the applicable Federal Register document the contacts for the Draft Test Guidelines are as follows: For general information contact: Melissa Chun, Regulatory Coordination Staff (7101M), Office of Chemical Safety and Pollution Prevention, Environmental Protection Agency, 1200 Pennsylvania Ave. NW., Washington, DC 20460-0001; telephone number: (202) 564-1605; email address: chun.melissa@epa.gov. For technical information contact: Stephen Tomasino, Biological and Economic Analysis Division (7503P), Office of Pesticide Programs, Environmental Protection Agency, Environmental Science Center, 701 Mapes Road, Ft. Meade, MD 20755-5350; telephone number: (410) 305-2976; email address: tomasino.stephen@epa.gov.

The contact for the Proposed Use Site Index is Steven Weiss, Antimicrobials Division (7510P), Office of Pesticide Programs, Environmental Protection Agency, 1200 Pennsylvania Ave. NW., Washington, DC 20460-0001; main telephone number: (703) 308-8293; email address: weiss.steven@epa.gov.

SUPPLEMENTARY INFORMATION: EPA is hereby extending the comment periods for the following two notices in response to requests for additional time that were received from stakeholders.

1. In the notice that issued in the Federal Register of June 17, 2015, entitled “Draft Test Guidelines; Series 810—Product Performance Test Guidelines; Notice of Availability and Request for Comments” (80 FR 34638) (FRL-9927-37), EPA sought public comment on several non-binding draft test guidelines developed by the Office of Chemical Safety and Pollution Prevention (OCSPP). The test guidelines provide guidance on conducting testing by the public and companies that are subject to EPA data submission requirements under OCSPP's major statutory mandates. The end of the comment period is hereby being extended from August 17, 2015 to October 1, 2015. See docket ID number EPA-HQ-OPP-2015-0276 at http://www.regulations.gov.

2. In the notice that issued in the Federal Register of July 1, 2015, entitled “Proposed Antimicrobial Pesticide Use Site Index; Notice of Availability and Request for Comment” (80 FR 37610) (FRL-9929-42), EPA sought public comment on a proposed guidance document called the Antimicrobial Pesticide Use Site Index. The Agency developed this document to provide guidance about antimicrobial pesticide use sites and general antimicrobial pesticide use patterns. This guidance document is intended to assist antimicrobial pesticide applicants and registrants by helping them to identify the 40 CFR part 158 subpart W data requirements that are necessary to register their product(s), and will likewise be used by Agency staff evaluating pesticide applications. The end of the comment period is hereby being extended from July 31, 2015 to August 31, 2015. See docket ID number EPA-HQ-OPP-2015-0302 at http://www.regulations.gov.

To submit comments, or access the docket, please follow the detailed instructions provided under ADDRESSES in the applicable Federal Register document of either June 17, 2015 (80 FR 34638) (FRL-9927-37) for the Draft Test Guidelines or July 1, 2015 (80 FR 37610) (FRL-9929-42) for the Proposed Use Site Index.

If you have questions, consult with someone listed under FOR FURTHER INFORMATION CONTACT.

Authority: 7 U.S.C. 136 et seq.; 15 U.S.C. 2601 et seq.; 21 U.S.C. 301 et seq.

Dated: July 20, 2015.
James Jones,
Assistant Administrator, Office of Chemical Safety and Pollution Prevention.

[FR Doc. 2015-18232 Filed 7-23-15; 8:45 am]

BILLING CODE 6560-50-P